DEPARTMENT OF TRANSPORTATION

Federal Aviation Administration

14 CFR Part 121

[Docket No. FAA-1999-6482; Amendment No. 121-346]

RIN 2120-AG87

Revisions to Digital Flight Data Recorder Regulations for Boeing 737 Airplanes and for All Part 125 Airplanes

AGENCY: Federal Aviation Administration, DOT.

ACTION: Final rule; correction.

SUMMARY: The Federal Aviation Administration (FAA) is amending a final rule published in the Federal Register on December 2, 2008. That final rule amended the regulations governing flight data recorders to increase the number of digital flight data recorder parameters for all Boeing 737 series airplanes manufactured after August 18, 2000. The rule also adopts a prohibition on deviations from flight recorder requirements for all airplanes operated under part 125. In our changes to part 125, the FAA incorrectly referenced the appendix containing airplane flight recorder specifications as appendix M when it is actually appendix E.

DATES: Effective Date: These amendments become effective July 9, 2009.

FOR FURTHER INFORMATION CONTACT: For technical questions contact: Brian A. Verna, Avionics Systems Branch, Aircraft Certification Service, AIR-130, Federal Aviation Administration, 470 L'Enfant Plaza, Suite 4100, Washington, DC 20024; telephone (202) 385-4643; facsimile (202) 385-4651; e-mail brian.verna@faa.gov. For legal questions contact: Karen L. Petronis, Regulations Division, Office of the Chief Counsel, Federal Aviation Administration, 800 Independence, Avenue, SW., Washington, DC 20591; telephone (202) 267-3073; facsimile (202) 267-3073; e-mail karen.petronis@faa.gov.

SUPPLEMENTARY INFORMATION: The Federal Aviation Administration published a final rule entitled “Revisions to Digital Flight Data Recorder Regulations for Boeing 737 Airplanes and for All Part 125 Airplanes” in the Federal Register on December 2, 2008 (73 FR 73171). That final rule amended the regulations governing flight data recorders to increase the number of digital flight data recorder parameters for all Boeing 737 series airplanes manufactured after August 18, 2000. The rule also adopted a prohibition on deviations from flight recorder requirements for all airplanes operated under part 125.

Following publication of the final rule, an individual contacted us noting that the amended language in § 125.226(f)(1) references “appendix M to this part” when the correct appendix is appendix E. Upon reviewing our other changes to part 125, we noted the same incorrect reference in the amended language of § 125.226(n).

This document makes the appropriate amendatory changes to §§ 125.226(f)(1) and 125.226(n) to correctly reference appendix E to part 125.

Correcting Amendment

This correcting amendment will clarify the references to appendix E to part 125 in §§ 125.226(f)(1) and 125.226(n).

List of Subjects in 14 CFR Part 125

Aircraft, Aviation safety.

Correction

In consideration of the foregoing, the Federal Aviation Administration amends part 125 of Title 14, Code of Regulations, as follows:

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

1. The authority citation for part 125 continues to read as follows:

Authority: 49 U.S.C. 106(g), 40113, 44701-44702, 44705, 44710-44711, 44713, 44716-44717, 44722.

2. Amend § 125.226 by revising paragraphs (f)(1) and (n) to read as follows:

§ 125.226 Digital flight data recorders.

* * * * *

(f) * * *

(1) The parameters listed in paragraphs (a)(1) through (a)(88) of this section must be recorded within the ranges, accuracies, resolutions, and recording intervals specified in Appendix E to this part.

* * * * *

(n) In addition to all other applicable requirements of this section, all Boeing 737 model airplanes manufactured after August 18, 2000 must record the parameters listed in paragraphs (a)(88) through (a)(91) of this section within the ranges, accuracies, resolutions, and recording intervals specified in Appendix E to this part. Compliance with this paragraph is required no later than February 2, 2011.

Issued in Washington, DC, on July 2, 2009.
Pamela Hamilton-Powell,
Director, Office of Rulemaking.

[FR Doc. E9-16057 Filed 7-8-09; 8:45 am]

BILLING CODE 4910-13-P